FEDERAL RETIREMENT THRIFT INVESTMENT BOARD

Sunshine Act; Notice of Board Member Meeting: Federal Retirement Thrift Investment Board

Agenda

Federal Retirement Thrift Investment Board Members' Meeting, October 23, 2017, 8:30 a.m. (In-Person).

Open Session

1. Approval of the Minutes of the September 18, 2017 Board Members' Meeting

2. Investment Manager Annual Service Review

3. Monthly Reports

(a) Participant Activity Report

(b) Legislative Report

4. Quarterly Reports

(c) Investment Policy

(d) Budget Review

(e) Audit Status

5. Mid-Year Financial Audit

6. ORM Annual Report

7. OEP Annual Report/Survey

8. Blended Retirement Update

9. IT Update

Closed Session

Information covered under 5 U.S.C. 552b(c)(9)(B).

Adjourn

CONTACT PERSON FOR MORE INFORMATION: Kimberly Weaver, Director, Office of External Affairs, (202) 942-1640.

Dated: October 12, 2017.
Megan Grumbine,
General Counsel, Federal Retirement Thrift Investment Board.

[FR Doc. 2017-22487 Filed 10-12-17; 4:15 pm]

BILLING CODE 6760-01-P